DEPARTMENT OF THE INTERIOR

National Park Service

National Register of Historic Places; Notification of Pending Nominations and Related Actions

Nominations for the following properties being considered for listing or related actions in the National Register were received by the National Park Service before September 16, 2006. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by October 16, 2006.

John W. Roberts,
Acting Chief, National Register/National Historic Landmarks Program.

CALIFORNIA

Lake County

Tallman Hotel, 9550 Main St., Upper Lake, 06000947

Orange County

Fox Fullerton Theatre Complex, 500-512 N. Harbor Blvd., Fullerton, 06000948

COLORADO

Las Animas County

Zion's German Lutheran Church, 510 Pine St., Trinidad, 06000950

Weld County

Alger, Amanda K., Memorial Methodist Episcopal Church, 303 Maple Ave., Eaton, 06000949

CONNECTICUT

Fairfield County

Perry Avenue Bridge, Perry Avenue over Silvermine River, Norwalk, 06000951

New Haven County

Westville Village Historic District (Boundary Increase), 827 Whalley Ave., New Haven, 06000954

FLORIDA

Miami-Dade County

Lummus Park Historic District, Generally bounded by NW 4th ST., NW 3rd Court, NW 2nd St. and NW North River Dr., Miami, 06000952

IOWA

Linn County

Terrace Park Historic District, Roughly bounded by 10th Ave., 9th Ave., 11th St. and E side of 12th St., Marion, 06000953

TEXAS

Cameron County

Morris—Browne House, 204 E. Levee St., Brownsville, 06000955

[FR Doc. E6-16071 Filed 9-28-06; 8:45 am]

BILLING CODE 4310-70-P